DEPARTMENT OF ENERGY

Federal Energy Regulatory Commission

[Project No. 2651-059]

Indiana Michigan Power Company; Notice of Intent To File License Application, Filing of Pre-Application Document (Pad), Commencement of Pre-Filing Process and Scoping, Request for Comments on the Pad and Scoping Document, and Identification of Issues and Associated Study Requests

a. Type of Filing: Notice of Intent to File License Application for a New License and Commencing Pre-filing Licensing Process.

b. Project No.: 2651-059.

c. Dated Filed: October 10, 2025.

d. Submitted By: Indiana Michigan Power Company (I&M).

e. Name of Project: Elkhart Hydroelectric Project.

f. Location: The project is located on the St. Joseph River in the City of Elkhart, Elkhart County, Indiana.

g. Filed Pursuant to: 18 CFR part 5 of the Commission's regulations.

h. Potential Applicant Contact: Mr. Dave Lucas, VP Generation Transformation, Strategy, and Growth, Indiana Michigan Power Company, 1 Riverside Plaza, Columbus, OH 43215; (614) 716-2240 or email at jmmagalski@aep.com.

i. FERC Contact: Joshua Dub, Project Coordinator, Great Lakes Branch, Division of Hydropower Licensing; telephone at (202) 502-8138; email at Joshua.Dub@FERC.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service and the National Oceanic and Atmospheric Administration—Fisheries under section 7 of the Endangered Species Act and the joint agency regulations thereunder at 50 CFR, Part 402; and (b) the Indiana State Historic Preservation Officer, as required by section 106, National Historic Preservation Act, and the implementing regulations of the Advisory Council on Historic Preservation at 36 CFR 800.2.

l. With this notice, we are designating I&M as the Commission's non-federal representative for carrying out informal consultation pursuant to section 7 of the Endangered Species Act and section 106 of the National Historic Preservation Act.

m. I&M filed with the Commission a Pre-Application Document (PAD), including a proposed process plan and schedule, pursuant to 18 CFR 5.6 of the Commission's regulations.

n. A copy of the PAD is available for review on the Commission's website (http://www.ferc.gov), using the “eLibrary” link. Enter the docket number, excluding the last three digits of the sub-docket in the docket number field to access the document. For assistance, contact FERC Online Support at FERCOnlineSupport@ferc.gov, (866) 208-3676 (toll free), or (202) 502-8659 (TTY). A copy is also available via the contact in paragraph h.

You may register online at https://ferconline.ferc.gov/FERCOnline.aspx to be notified via email of new filings and issuances related to this or other pending projects. For assistance, contact FERC Online Support.

For public inquiries and assistance with making filings such as interventions, comments, or requests for rehearing, contact the Office of Public Participation at (202) 502-6595 or OPP@ferc.gov.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file documents using the Commission's eFiling system at https://ferconline.ferc.gov/FERCOnline.aspx. Commenters can submit brief comments up to 10,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Elkhart Hydroelectric Project (P-2651-059).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by 5:00 p.m. Eastern Daylight Time, February 9, 2026.

Scoping Process

In accordance with the National Environmental Policy Act (NEPA), Commission staff will prepare either an environmental assessment (EA) or an environmental impact statement (EIS) (collectively referred to as the “NEPA document”). The NEPA document will consider both site-specific and cumulative environmental effects, if any, of the proposed action and reasonable alternatives to the proposed action. The Commission's scoping process will help determine the required level of analysis and satisfy the NEPA scoping requirements, irrespective of whether the Commission prepares an EA or EIS.

Scoping Meetings

Commission staff will hold two scoping meetings for the project to receive input on the scope of the NEPA document. A daytime meeting will focus on concerns of resource agencies, Tribes, and non-governmental organizations (NGO); and an evening meeting will focus on input from the public. We invite all interested agencies, Tribes, NGOs, and the public to attend one or both meetings to assist staff in identifying the scope of environmental issues that should be analyzed in the NEPA document. The dates and times of the scoping meetings are listed below.

Daytime Scoping Meeting

Date: Thursday, January 8, 2026.

Time: 1:00 p.m. to 3:00 p.m.

Location: Matterhorn Conference Center, 2041 Cassopolis Street, Elkhart, IN 46514.

Evening Scoping Meeting

Date: Thursday, January 8, 2026.

Time: 5:30 p.m. to 7:30 p.m.

Location: Matterhorn Conference Center, 2041 Cassopolis Street, Elkhart, IN 46514.

Copies of SD1, outlining the subject areas to be addressed in the environmental document, were mailed to the individuals and entities on the Commission's mailing list. Copies of SD1 may be viewed on the web at http://www.ferc.gov, using the “eLibrary” link. Follow the directions for accessing information in paragraph n. Based on all oral and written comments, a Scoping Document 2 (SD2) may be issued. SD2 may include a revised process plan and schedule, as well as a list of issues, identified through the scoping process.

Site Visit

A site visit of the project will be conducted at 330 Johnson Street, Elkhart, IN 46516, on Thursday, January 8, 2026, from 8:30 a.m. to 10:30 a.m.

All interested individuals, agencies, Tribes, and NGOs are invited to attend. Participants should meet at 8:30 a.m. at 330 Johnson Street, Elkhart, IN 46516. Please contact Justine Penix at (574) 236-1682 or via email at jpenix@aep.com on or before December 22, 2025, if you plan to attend and indicate how many participants will be attending with you.

Meeting Procedures

Agencies, Tribes, NGOs, and individuals with environmental expertise and concerns are encouraged to attend the meetings and to assist the staff in defining and clarifying the issues to be addressed in the NEPA document. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time. Please see appendix C of the SD1 for additional information on the session format and conduct.

Scoping comments will be recorded by the court reporter and become part of the public record for this proceeding. Transcripts will be publicly available on FERC's eLibrary system. If a significant number of people are interested in providing oral comments in the one-on-one settings, a time limit may be implemented for each commentor.

It is important to note that the Commission provides equal consideration to all comments received, whether filed in writing or provided orally at a scoping session. Although there will not be a formal presentation, Commission staff will be available throughout the scoping meeting(s) to answer your questions about the environmental review process. Representatives from I&M will also be present to answer project-specific questions.

(Authority: 18 CFR 2.1)

Dated: December 9, 2025.
Debbie-Anne A. Reese,
Secretary.

[FR Doc. 2025-22729 Filed 12-12-25; 8:45 am]

BILLING CODE 6717-01-P